DEPARTMENT OF THE INTERIOR

Fish and Wildlife Service

50 CFR Part 29

[Docket No. FWS-HQ-NWRS-2012-0086; FXRS12610900000-134-FF09R200000]

RIN 1018-AX36

Non-Federal Oil and Gas Development Within the National Wildlife Refuge System

AGENCY: Fish and Wildlife Service, Interior.

ACTION: Advance notice of proposed rulemaking; notice of intent to prepare an environmental impact statement; reopening and extension of the comment period.

SUMMARY: The U.S. Fish and Wildlife Service (Service) is reopening and extending the comment period for the advance notice of proposed rulemaking and notice of intent to prepare an environmental impact statement for non-Federal oil and gas development within the National Wildlife Refuge System published in the Federal Register on February 24, 2014. We are taking this action in response to public comments.

DATES: The comment period for the advance notice of proposed rulemaking and notice of intent to prepare an environmental impact statement that published February 24, 2014 (79 FR 10080), is reopened. We will consider comments received or postmarked on or before July 9, 2014.

ADDRESSES: Document availability: You may obtain a copy of the advance notice of proposed rulemaking and notice of intent to prepare an environmental impact statement on the Internet at http://www.regulations.gov at Docket No. FWS-HQ-NWRS-2012-0086.

Written comments: You may submit written comments by one of the following methods:

(1) Electronically: Go to the Federal eRulemaking Portal: http://www.regulations.gov. Search for FWS-HQ-NWRS-2012-0086, which is the docket number for this rulemaking. You may submit a comment by clicking on “Comment Now!” If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: FWS-HQ-NWRS-2012-0086; Division of Policy and Directives Management, U.S. Fish and Wildlife Service, 4401 N. Fairfax Drive, MS 2042-PDM, Arlington, VA 22203.

We will not accept email or faxes. We will post all comments on http://www.regulations.gov. This generally means that we will post any personal information you provide us (see SUPPLEMENTARY INFORMATION for more information).

FOR FURTHER INFORMATION CONTACT: Scott Covington, (703) 358-2427.

SUPPLEMENTARY INFORMATION: On February 24, 2014 (79 FR 10080), we published an advance notice of proposed rulemaking (ANPR) and notice of intent (NOI) to prepare an environmental impact statement (EIS) seeking public comments to assist us in developing a proposed rule and programmatic EIS on managing activities associated with non-Federal oil and gas development on lands and waters of the National Wildlife Refuge System (Refuge System). Non-Federal oil and gas development refers to oil and gas activities associated with any private, state, or tribally owned mineral interest where the surface estate is administered by the Service as part of the Refuge System. The proposed rule will clarify and expand existing regulations at 50 CFR 29.32.

The Service solicited public comment and provided a 60-day public comment period ending April 25, 2014. The Service has received requests for an extension of the public comment period. In response to those requests, we are reopening and extending the public comment period for 30 days. All comments received between April 25, 2014, and the date specified above in DATES will be considered.

If you submitted comments or information on the ANPR/NOI during the initial comment period from February 24 to April 25, 2014, please do not resubmit them. We have incorporated them into the public record, and will fully consider them in determining the scope of the proposed rule and EIS.

Dated: May 21, 2014.
Rachel Jacobson,
Principal Deputy Assistant Secretary for Fish and Wildlife and Parks.

[FR Doc. 2014-13303 Filed 6-6-14; 8:45 am]

BILLING CODE 4310-55-P